ENVIRONMENTAL PROTECTION AGENCY

[EPA-HQ-OAR-2020-0669; FRL-9498-01-OMS]

Information Collection Request Submitted to OMB for Review and Approval; Comment Request; Emission Guidelines for Sewage Sludge Incinerators (Renewal)

AGENCY: Environmental Protection Agency (EPA).

ACTION: Notice.

SUMMARY: The Environmental Protection Agency (EPA) has submitted an information collection request (ICR), Emission Guidelines for Sewage Sludge Incinerators (EPA ICR Number 2403.06, OMB Control Number 2060-0661), to the Office of Management and Budget (OMB) for review and approval in accordance with the Paperwork Reduction Act. This is a proposed extension of the ICR, which is currently approved through March 31, 2022. Public comments were previously requested via the Federal Register on February 8, 2021 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before February 28, 2022.

ADDRESSES: Submit your comments, referencing Docket ID Number EPA-HQ-OAR-2020-0669, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: https://www.epa.gov/dockets.

Abstract: Owners and operators of sewage sludge incineration units are required to comply with reporting and record keeping requirements for the General Provisions (40 CFR part 60, subpart A), as well as for the applicable standards in 40 CFR part 60, subpart MMMM and 40 CFR part 62 subpart LLL. This includes submitting initial notifications, performance tests and periodic reports and results, and maintaining records of the occurrence and duration of any startup, shutdown, or malfunction in the operation of an affected facility, or any period during which the monitoring system is inoperative. These reports are used by the EPA to determine compliance with the standards.

Form Numbers: None.

Respondents/affected entities: Owners and operators of existing sewage sludge incinerators.

Respondent's obligation to respond: Mandatory (40 CFR part 60, subpart MMMM and 40 CFR part 62, subpart LLL).

Estimated number of respondents: 86 (total).

Frequency of response: Semiannually, annually.

Total estimated burden: Respondent burden is 32,800 hours (per year), while the State/local agency burden for administering the same rule is 1,880 hours (per year). Burden is defined at 5 CFR 1320.3(b).

Total estimated cost: Respondent cost is $5,230,000 (per year); this sum includes $1,350,000 annualized capital/startup and/or operation & maintenance costs. State/local agency cost is $106,000 (per year).

Changes in the Estimates: There is no change in burden from the most-recently approved ICR as currently identified in the OMB Inventory of Approved Burdens for respondents. This situation is due to two considerations: (1) The regulations have not changed over the past three years and are not anticipated to change over the next three years; and (2) the growth rate for this industry is very low or non-existent, so there is no significant change in the overall burden. Since there are no changes in the regulatory requirements and there is no significant industry growth, there are also no changes in the capital/startup and/or operation and maintenance (O&M) costs.

This ICR also adjusts the number of respondents subject to the requirements of Subpart MMMM which are implemented under State plans and a Federal Plan to incorporate the burden associated with the Federal Plan. The Federal Plan was finalized at 40 CFR part 62, subpart LLL on April 29, 2016. As of June 3, 2021, the EPA data and the listing of approved State plans in the eCFR indicates that 9 State and local agencies enforce the State plans and the remainder of these SSI units will be covered by the Federal Plan. The burden on State and local agencies is included in respondent burden in this ICR, and is similar to the Agency burden in the previous ICR.

Courtney Kerwin,
Director, Regulatory Support Division.

[FR Doc. 2022-01592 Filed 1-26-22; 8:45 am]

BILLING CODE 6560-50-P